DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce (the Department) has received requests to conduct administrative reviews of various antidumping and countervailing duty orders and findings with November anniversary dates. In accordance with the Department's regulations, we are initiating those administrative reviews.

EFFECTIVE DATE: December 24, 2003.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with November anniversary dates.

Initiation of Reviews

In accordance with section 19 CFR 351.221(c)(1)(i), we are initiating administrative reviews of the following antidumping and countervailing duty orders and findings. We intend to issue the final results of these reviews not later than November 30, 2004.

| Period to be reviewed
Antidumping Duty Proceedings
Mexico: Circular Welded Non-alloy Steel Pipe, A-201-805 | 11/1/02-10/31/03
Hylsa, S.A. de C.V.
Niples Del Norte, S.A. de C.V.
Netherlands: Certain Hot-Rolled Carbon Steel Flat Products, A-421-807 | 11/1/02-10/31/03
Corus Staal BV
Republic of Korea: Circular Welded Non-Alloy Steel Pipe, A-580-809 | 11/1/02-10/31/03
Hyundai Hysco (formerly Hyundai Steel Pipe Company)
Husteel Co., Ltd. (formerly Shinho Steel Co., Ltd.)
SeaH Steel Corporation, Ltd.
Romania: Certain Hot-Rolled Carbon Steel Flat Products, A-485-806 | 11/1/02-10/31/03
Ispat Sidex
Thailand: Certain Hot-Rolled Carbon Steel Flat Products, A-549-817 | 11/1/02-10/31/03
Nakornthai Strip Mill Public Co., Ltd.
Sahaviriya Steel Industries Public Co., Ltd.
Siam Strip Mill Public Co., Ltd.
The People's Republic of China: Fresh Garlic *, A-570-831 | 11/1/02-10/31/03
Clipper Manufacturing Ltd.
Jinxiang Dong Yun Freezing Storage Co., Ltd.
Fook Huat Tong Kee Pte., Ltd. (FHTK)
H&T Trading Company
Huaiyang Hongda Dehydrated Vegetable Company
Jinxiang Hongyu Freezing and Storing Co., Ltd.
Jinan Yipin Corporation, Ltd.
Linshu Dading Private Agricultural Products Co., Ltd.
Linyi Sanshan Import & Export Trading Co., Ltd.
Shandong Heze International Trade and Developing Co.
Shanghai Ever Rich Trade Company
Sunny Import & Export Limited
Taian Ziyang Food Co., Ltd.
Tancheng County Dexing Foods Co., Ltd.
Jining Trans-High Trading Co., Ltd.
Xiangcheng Yisheng Foodstuffs Co.
Zhengzhou Harmoni Spice Co., Ltd.
* If one of the above-named companies does not qualify for a separate rate, all other exporters of fresh garlic from the People's Republic of China who have not qualified for a separate rate are deemed to be covered by this review as part of the single PRC entity of which the named exporters are a part.
Countervailing Duty Proceedings
None.
Suspension Agreements
None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: December 18, 2003.
Holly A. Kuga,
Acting Deputy Assistant Secretary, Group II for Import Administration.

[FR Doc. 03-31776 Filed 12-23-03; 8:45 am]

BILLING CODE 3510-DS-P